DEPARTMENT OF JUSTICE

Bureau of Alcohol, Tobacco, Firearms and Explosives

[OMB Number 1140-0003]

Agency Information Collection Activities; Proposed eCollection eComments Requested; Revision of a Currently Approved Collection Report of Multiple Sale or Other Disposition of Pistols and Revolvers—ATF F 3310.4

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0067 (Report of Multiple Sale or Other Disposition of Pistols and Revolvers—ATF F 3310.4) is being revised due to a change in burden, since there is an increase in the number of respondents, responses, and total burden hours. The proposed information collection is also being published to obtain comments from the public and affected agencies.

DATES: Comments are encouraged and will be accepted for 60 days until June 11, 2018.

FOR FURTHER INFORMATION CONTACT: If you have additional comments, particularly with respect to the estimated public burden or associated response time, have suggestions, need a copy of the proposed information collection instrument with instructions, or desire any additional information, please contact Ed Stely, Branch Chief, Tracing Operations and Records Management Branch, National Tracing Center Division either by mail at 244 Needy Road, Martinsburg, WV 25405, by email at Edward.Stely@atf.gov, or by telephone at 304-260-1515.

SUPPLEMENTARY INFORMATION: Written comments and suggestions from the public and affected agencies concerning the proposed collection of information are encouraged. Your comments should address one or more of the following four points:

— Evaluate whether the proposed collection of information is necessary for the proper performance of the functions of the agency, including whether the information will have practical utility;

— Evaluate the accuracy of the agency's estimate of the burden of the proposed collection of information, including the validity of the methodology and assumptions used;

— Evaluate whether and if so how the quality, utility, and clarity of the information to be collected can be enhanced; and

— Minimize the burden of the collection of information on those who are to respond, including through the use of appropriate automated, electronic, mechanical, or other technological collection techniques or other forms of information technology, e.g., permitting electronic submission of responses.

Overview of This Information Collection

1. Information Collection (check justification or form 83): Revision of a currently approved collection.

2. The Title of the Form/Collection: Report of Multiple Sale or Other Disposition of Pistols and Revolvers

3. The agency form number, and the applicable component of the Department sponsoring the collection:

Form/Collection number (if applicable): ATF F 3310.4.

Component: Bureau of Alcohol, Tobacco, Firearms and Explosives, U.S. Department of Justice.

4. Affected public who will be asked or required to respond, as well as a brief abstract:

Primary: Individuals or households.

Other (if applicable): Federal Government, State, Local, or Tribal Government.

Abstract: This information collection documents certain sales or other dispositions of handguns for law enforcement purposes, and determines if the buyer is involved in an unlawful activity, or is a person prohibited by law from obtaining firearms.

5. An estimate of the total number of respondents and the amount of time estimated for an average respondent to respond: An estimated 77,905 respondents will respond approximately 5.85244 times to this information collection, and it will take each respondent approximately 15 minutes to complete the required form.

6. An estimate of the total public burden (in hours) associated with the collection: The estimated annual public burden associated with this collection is 113, 984 hours which is equal to 77,905 (# of respondents) * 5.85244 (# of responses per respondent) * .25 (15 minutes).

7. An Explanation of the Change in Estimates: The increase in the number of respondents by 4,106, the total responses by 126,768 and the IC burden hours by 31,692, are due to a revision of agency estimates and a general increase in the number of respondents since the last renewal in 2015.

If additional information is required contact: Melody Braswell, Department Clearance Officer, United States Department of Justice, Justice Management Division, Policy and Planning Staff, Two Constitution Square, 145 N Street NE 3E.405A, Washington, DC 20530.

Dated: April 9, 2018.
Melody Braswell,
Department Clearance Officer for PRA, U.S. Department of Justice.

[FR Doc. 2018-07551 Filed 4-11-18; 8:45 am]

BILLING CODE 4410-FY-P